DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of January 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-42,108; Harvard Industries, Inc., Jackson, MI.

In the following cases, the investigation revealed that the criteria for eligibility have not been met for the reasons specified.

The investigation revealed that criterion (a)(2)(A) (I.A.) (No employment declines) and (a) (2)(B) (II.B) (No shift in production to a foreign country) have not been met.

TA-W-50,320; American Bag Corp., Stearns Plant, Stearns, KY.

The investigation revealed that criterion (a)(2)(A) (I.B.) (No Sales or Production declines) and (a) (2)(B) (II.B) (No shift in production to a foreign country) have not been met.

TA-W-50,274; Neenah Foundry Co., Neenah, WI.

The investigation revealed that criterion (a)(2)(A) (I.C.) (Increased imports) and (a) (2)(B) (II.B) (No shift in production to a foreign country) have not been met.

TA-W-50,237; Pass and Seymour Legrand, a Subsidiary of Legrand, Dallas, NC.

TA-W-50,254; Precision Tool and Design, Inc., Erie, PA.

TA-W-50,221; Ericsson Wireless Communications, San Diego, CA.

TA-W-50,019 & A; Domtar A.W., Wisconsin Operations, Port Edwards, WI and Nekoosa, WI.

The workers' firm does not produce an article as required for certification under section 222 of the Trade Act of 1974.

TA-W-50,319; Affiliated Computer Services, Libertyville, KY.

TA-W-50,399; Computer Horizons Corp., Irving, TX.

The investigation revealed that criteria (2) has not been met. The workers' firm (or subdivision) is not a supplier or downstream producer for trade-affected companies.

TA-W-50,333; The Rockford Co., Custom Metal Products Div., Rockford, IL.

The investigation revealed that criteria (2) has not been met. The workers' firm (or subdivision) is not an upstream supplier of components for trade-affected companies.

TA-W-50,328; Crane Manufacturing and Services Corp., Cudahy, WI.

Affirmative Determinations for Worker Adjustment Assistance

The following certifications have been issued; the date following the company name and location of each determination references the impact date for all workers of such determination.

TA-W-42,268; Frazer and Jones Co., a Division of The Eastern Co., Soway, NY: October 2, 2001.

TA-W-42,330; Alcoa, Inc., Cleveland, OH: November 1, 2001.

TA-W-42,331; PHB Die Casting, a Subsidiary of PHB, Inc., Fairview, PA: October 15, 2001.

The following certifications have been issued. The requirements of (a)(2)(A) (increased imports) of section 222 have been met.

TA-W-50,310; Mossberg Reel LLC, a Wholly Owned Subsidiary of Boxy S.P.A., Cumberland, RI: December 6, 2001.

TA-W-50,154; Aurafin-OroAmerica LLC, Burbank, CA: November 12, 2001.

TA-W-50,290; Sipex Corp., Billerica, MA: November 6, 2001.

TA-W-50,289; Metolius Mountain Products, Inc., Bend, OR: November 22, 2001.

TA-W-50,272; Hitachi Magnetics Corp., Edmore, MI: December 3, 2003.

TA-W-50,257; Electric Steel Castings Co., Indianapolis, IN: December 5, 2001.

TA-W-50,230; Mount Vernon Mills, Inc., Johnston, SC: December 2, 2001.

TA-W-50,193; Dan River, Inc., Greenville, SC: November 6, 2001.

TA-W-50,187; Crown Castings, Inc., Midland Park, NJ: November 19, 2001.

TA-W-50,166; L. Chessler, In, Philadelphia, PA: November 21, 2001.

TA-W-50,152; Kennecott Rawhide Mining Co., Denton Rawhide Mine, Fallon, NE: November 20, 2001.

TA-W-50,004 & A; Spang and Company, Magnetics Div., East Butler, PA and Booneville, AR: November 4, 2001.

TA-W-50,038; Hitachi Metals America, LTD, HI Specialty America, Irwin, PA: November 5, 2001.

The following certifications have been issued. The requirements of (a)(2)(B) (shift in production) of section 222 have been met.

TA-W-50,346; Square D Company, Including Leased Workers of Adecco, Columbia, MO: December 10, 2001.

TA-W-50,124; Thomson, Inc., Research and Development, Lancaster, PA: November 8, 2001.

TA-W-50,200; Wabash Alloys, L.L.C., Benton, AR: November 25, 2001.

TA-W-50,377; Trans World Connection, LTD, Lynchburg, VA: December 12, 2001.

TA-W-50,189; Temco Fireplace Products, Manchester, TN: November 21, 2001.

I hereby certify that the aforementioned determinations were issued during the month of January 2003. Copies of these determinations are available for inspection in Room C-5311, U.S. Department of Labor, 200 Constitution Avenue, NW., Washington, DC 20210 during normal business hours or will be mailed to persons who write to the above address.

Dated: January 10, 2003.
Edward A. Tomchick,
Director, Division of Trade Adjustment Assistance.

[FR Doc. 03-2560 Filed 2-3-03; 8:45 am]

BILLING CODE 4510-30-P